DEPARTMENT OF AGRICULTURE

Agricultural Marketing Service

[Doc. No. AMS-FV-15-0010]

Fruit and Vegetable Industry Advisory Committee

AGENCY: Agricultural Marketing Service, USDA.

ACTION: Notice of public meeting.

SUMMARY: Pursuant to the Federal Advisory Committee Act, the Agricultural Marketing Service (AMS) is announcing a meeting of the Fruit and Vegetable Industry Advisory Committee (Committee). The meeting is being convened to examine the full spectrum of fruit and vegetable industry issues and provide recommendations and ideas to the Secretary of Agriculture on how the U.S. Department of Agriculture (USDA) can tailor programs and services to better meet the needs of the U.S. produce industry. The meeting is open to the public. This notice sets forth the schedule and location for the meeting.

DATES: Tuesday, March 10, 2015, from 8:30 a.m. to 5:00 p.m. Eastern Time, and Wednesday, March 11, 2015, from 8:30 a.m. to 1:00 p.m., Eastern Time.

ADDRESSES: The Committee meeting will be held in Room 107A, USDA Jamie L. Whitten Office Building, Jefferson Drive Southwest, Washington, DC 20250.

FOR FURTHER INFORMATION CONTACT: Pamela Stanziani, Designated Federal Official, USDA, AMS, Fruit and Vegetable Program; Telephone: (202) 720-3334; Email: pamela.stanziani@ams.usda.gov.

SUPPLEMENTARY INFORMATION: Pursuant to the Federal Advisory Committee Act (FACA)(5 U.S.C. App.), the Secretary of Agriculture (Secretary) established the Committee in 2001, to examine the full spectrum of issues faced by the fruit and vegetable industry and to provide suggestions and ideas to the Secretary on how USDA can tailor its programs to meet the fruit and vegetable industry's needs. The Committee was re-chartered in July 2013, for a two-year period.

AMS Deputy Administrator for the Fruit and Vegetable Program, Charles Parrott, serves as the Executive Secretary. Representatives from USDA mission areas and other government agencies affecting the fruit and vegetable industry are periodically called upon to participate in the Committee's meetings as determined by the Committee. AMS is giving notice of the Committee meeting to the public so that they may attend and present their views. The meeting is open to the public. The public is asked to pre-register for the meeting at least 10 business days prior to the meeting. Your pre-registration should state: The names of each person in your group; organization or interest represented; and whether anyone in your group requires special accommodations. Submit registrations to Pamela Stanziani via pamela.stanziani@ams.usda.gov or to Charles Parrott via Charles.parrott@ams.usda.gov no later than March 6, 2015.

Public Comments: All written public comments must be submitted electronically by March 6, 2015, for the Committee's consideration to Pamela Stanziani at pamela.stanziani@ams.usda.gov or to www.regulations.gov, or mailed to: 1400 Independence Avenue SW., Room 2077-South, STOP 0235, Washington, DC 20250-0235. The meeting will be recorded, and information about obtaining a transcript will be provided at the meeting.

Agenda items may include, but are not limited to, welcome and introductions, administrative matters, progress reports from committee working group chairs and/or vice chairs, potential working group recommendation discussion, and presentations by subject matter experts as requested by the Committee.

Meeting Accommodations: The USDA Jamie L. Whitten Building is ADA compliant, and the USDA provides reasonable accommodations to individuals with disabilities where appropriate. If you need a reasonable accommodation to participate in this public meeting, please notify Pamela Stanziani at pamela.stanziani@ams.usda.gov or (202) 720-3334. Determinations for reasonable accommodations will be made on a case-by-case basis.

Date: February 23, 2015.
Rex A. Barnes,
Associate Administrator.

[FR Doc. 2015-04022 Filed 2-25-15; 8:45 am]

BILLING CODE 3410-02-P